DEPARTMENT OF ENERGY

Federal Energy Regulatory Commission

[Docket No. DI12-5-000]

National Currents Energy Services, LLC; Notice of Declaration of Intention and Petition for Relief, and Soliciting Comments, Protests, and/or Motions To Intervene

Take notice that the following application has been filed with the Commission and is available for public inspection:

a. Application Type: Declaration of Intention.

b. Docket No.: DI12-5-000.

c. Date Filed: March 29, 2012.

d. Applicant: National Currents Energy Services, LLC.

e. Name of Project: Wards Island Tidal Energy Project.

f. Location: The proposed Wards Island Tidal Energy Project will be located off the south shore of Wards Island, in the Hell Gate Waterway near the junction of the Harlem River, East River, and Long Island Sound in the Borough of Manhattan, New York City, NY.

g. Filed Pursuant to: 18 CFR part 24, section 24.1.

h. Applicant Contact: Roger Bason, President, National Currents Energy Services, LLC, 24 Roxanne Blvd., Highland, NY 12528; telephone: (845) 691-4008; email: www.rbason@naturalcurrents.com.

i. FERC Contact: Any questions on this notice should be addressed to Henry Ecton, (202) 502-8768, or Email address: henry.ecton@ferc.gov.

j. Deadline for filing comments, protests, and/or motions: July 27, 2012.

Comments, protests, and motions to intervene may be filed electronically via the Internet. See 18 CFR 385.2001(a)(l)(iii) and the instructions on the Commission's Web site under the “eFiling” link. If unable to be filed electronically, documents may be paper-filed. To paper-file, an original and eight copies should be mailed to: Kimberly D. Bose, Secretary, Federal Energy Regulatory Commission, 888 First Street NE., Washington, DC 20426. For more information on how to submit these types of filings, please go to the Commission's Web site located at http://www.ferc.gov/filing-comments.asp. Please include the docket number (DI12-5-000) on any comments, protests, and/or motions filed.

k. Description of Project: The proposed Wards Island Tidal Energy Project would consist of: (1) A 15-meter-long, 1.6-meter-diameter vessel mounted 150-kW Natural Currents Sea Dragon Tidal Turbine; (2) a vessel-based deployment Principal Project Works or Structural Support system; (3) six 40-foot-long steel support pilings; (4) a 50-meter-long subsea transmission line connecting to an electrical cabinet owned by the City of New York; and (5) appurtenant facilities.

l. Petition for Declaration of Intention: National Currents Energy Services, LLC asks that it be allowed, for a limited time, to deploy, test, and demonstrate the durability of the technology without obtaining a license under part I of the Federal Power Act. The project purpose is for scientific research, public education, and training. The experimental hydrokinetic turbine generator will be tested to determine its durability. The power produced by the project will be used for off-grid demonstration of innovative uses.

m. Locations of the Application: Copies of this filing are on file with the Commission and are available for public inspection. This filing may be viewed on the Web at http://www.ferc.gov using the “eLibrary” link. Enter the Docket number excluding the last three digits in the docket number field to access the document. You may also register online at http://www.ferc.gov/docs-filing/esubscription.asp to be notified via email of new filings and issuances related to this or other pending projects. For assistance, call 1-866-208-3676 or email FERCOnlineSupport@ferc.gov; for TTY, call (202) 502-8659. A copy is also available for inspection and reproduction at the address in item (h) above.

n. Individuals desiring to be included on the Commission's mailing list should so indicate by writing to the Secretary of the Commission.

o. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents—All filings must bear in all capital letters the title “COMMENTS”, “PROTESTS”, AND/OR “MOTIONS TO INTERVENE”, as applicable, and the Docket Number of the particular application to which the filing refers. A copy of any Motion to Intervene must also be served upon each representative of the Applicant specified in the particular application.

q. Agency Comments—Federal, state, and local agencies are invited to file comments on the described application. A copy of the application may be obtained by agencies directly from the Applicant. If an agency does not file comments within the time specified for filing comments, it will be presumed to have no comments. One copy of an agency's comments must also be sent to the Applicant's representatives.

Dated: June 27, 2012.
Kimberly D. Bose,
Secretary.

[FR Doc. 2012-16364 Filed 7-3-12; 8:45 am]

BILLING CODE 6717-01-P